DEPARTMENT OF TRANSPORTATION

Federal Transit Administration

Limitation on Claims Against Proposed Public Transportation Project—Port Authority Bus Terminal Replacement Project, New York, New York

AGENCY: Federal Transit Administration (FTA), Department of Transportation (DOT).

ACTION: Notice.

SUMMARY: This notice announces final environmental actions taken by the Federal Transit Administration (FTA) regarding the following project: Midtown Manhattan Bus Terminal Replacement Project, also known as the Port Authority Bus Terminal, in New York, New York. The purpose of this notice is to publicly announce FTA's environmental decisions on the subject project, and to activate the limitation on any claims that may challenge these final environmental actions.

DATES: A claim seeking judicial review of FTA actions announced herein for the listed public transportation project will be barred unless the claim is filed on or before May 15, 2025.

FOR FURTHER INFORMATION CONTACT: Kathryn Loster, Assistant Chief Counsel, Office of Chief Counsel, (312) 705-1269, or Saadat Khan, Environmental Protection Specialist, Office of Environmental Policy and Programs, (202) 366-9647. FTA is located at 1200 New Jersey Avenue SE, Washington, DC 20590. Office hours are from 9 a.m. to 5 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), Section 106 of the National Historic Preservation Act (54 U.S.C. 306108), Section 4(f) requirements (49 U.S.C. 303 and 23 U.S.C. 138), Endangered Species Act (16 U.S.C. 1531), Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project and actions that are the subject of this notice follow:

Project name and location: Port Authority Bus Terminal Replacement Project (Project), New York, New York.

Project sponsor: The Port Authority of New York and New Jersey.

Project description: The Project would replace the existing Port Authority Bus Terminal in Manhattan, New York, with a new Main Terminal, a Storage and Staging Facility, and associated ramp infrastructure, collectively called the `Replacement Facility.' The Project involves a portion of West 41st Street to be permanently closed between Eighth and Ninth Avenue in order to accommodate the new Main Terminal. The project also includes construction of two decks over below-grade portions of Dyer Avenue and the Lincoln Tunnel Expressway to facilitate construction-period bus operations. These two decks, referred to as the “Dyer Deck-Overs,” would be converted to publicly accessible open space following completion of the Replacement Facility.

Final agency actions: Section 106 Programmatic Agreement, executed July 2, 2024; Section 4(f) individual use determination and Port Authority Bus Terminal Final Environmental Impact Statement, dated October 4, 2024. Port Authority Bus Terminal Record of Decision (ROD), dated December 4, 2024.

Supporting documentation: Port Authority Bus Terminal Final Environmental Impact Statement (FEIS), dated October 4, 2024. Port Authority Bus Terminal Draft Environmental Impact Statement (DEIS), dated February 2, 2024. The ROD, FEIS, DEIS and associated documents can be viewed and downloaded from: https://www.panynj.gov/bus-terminals/en/port-authority/midtown-bus-terminal-replacement/resources.html.

Authority: 23 U.S.C. 139(l)(1).

Megan Blum,
Deputy Associate Administrator for Planning and Environment.

[FR Doc. 2024-29588 Filed 12-13-24; 8:45 am]

BILLING CODE 4910-57-P